DEPARTMENT OF EDUCATION

Applications for New Awards; Independent Living Services for Older Individuals Who Are Blind Program—Independent Living Services for Older Individuals Who Are Blind Training and Technical Assistance; Corrections

AGENCY: Office of Special Education and Rehabilitation Services, Department of Education.

ACTION: Notice; corrections.

SUMMARY: On January 14, 2025, the Department of Education (Department) published in the Federal Register a notice inviting applications (NIA) for fiscal year (FY) 2025 for the Independent Living Services for Older Individuals Who Are Blind Program—Independent Living Services for Older Individuals Who Are Blind Training and Technical Assistance. We are correcting the date that applications will be available, adding the deadline date for the transmittal of applications, and correcting the deadline for intergovernmental review. All other information in the NIA remains the same.

DATES: These corrections are applicable on February 10, 2025.

FOR FURTHER INFORMATION CONTACT: Mary Williams, U.S. Department of Education, 400 Maryland Avenue SW, Room 4A220, Washington, DC 20202-2600. Telephone: (202) 245-6263. Email: mary.williams@ed.gov.

If you are deaf, hard of hearing, or have a speech disability and wish to access telecommunications relay services, please dial 7-1-1.

SUPPLEMENTARY INFORMATION: On January 14, 2025, we published in the Federal Register (90 FR 3188) the NIA for the FY 2025 Independent Living Services for Older Individuals Who Are Blind Program—Independent Living Services for Older Individuals Who Are Blind Training and Technical Assistance competition, Assistance Listing Number 84.177Z. We are correcting the date that applications will be available and the intergovernmental review deadline and adding the deadline for the transmittal of applications. All other information in the NIA remains the same.

Corrections

In FR Doc. 2025-00533 appearing on pages 3188-3194 of the Federal Register of January 14, 2025, we revise the text under DATES in the right column, to read as follows:

Applications Available: January 15, 2025.

Deadline for Transmittal of Applications: March 17, 2025.

Deadline for Intergovernmental Review: May 16, 2025.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Erin McHugh,
Deputy Assistant Secretary for Management and Planning and Acting Assistant Secretary for Special Education and Rehabilitative Services.

[FR Doc. 2025-02394 Filed 2-7-25; 8:45 am]

BILLING CODE 4000-01-P